DEPARTMENT OF AGRICULTURE

Animal and Plant Health Inspection Service

[Docket No. APHIS-2009-0006]

Notice of Availability of a Bovine Brucellosis Program Concept Paper

AGENCY: Animal and Plant Health Inspection Service, USDA.

ACTION: Notice of availability and request for comments.

SUMMARY: We are advising the public that the Animal and Plant Health Inspection Service is making a concept paper describing a new direction for the bovine brucellosis program available for public review and comment. The cooperative Federal-State-industry effort to eradicate bovine brucellosis from cattle in the United States has made significant progress since the program's inception in 1934. However, unique challenges impede eradication. The concept paper we are making available presents our current thinking about changes we are planning to address these challenges.

DATES: We will consider all comments that we receive on or before December 4, 2009.

ADDRESSES: You may submit comments by either of the following methods:

• Federal eRulemaking Portal: Go to http://www.regulations.gov/fdmspublic/component/main?main=DocketDetail&d=APHIS-2009-0006 to submit or view comments and to view supporting and related materials available electronically.

• Postal Mail/Commercial Delivery: Please send two copies of your comment to Docket No. APHIS-2009-0006, Regulatory Analysis and Development, PPD, APHIS, Station 3A-03.8, 4700 River Road Unit 118, Riverdale, MD 20737-1238. Please state that your comment refers to Docket No. APHIS-2009-0006.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Lee Ann Thomas, Director, Ruminant Health Programs, VS, APHIS, 4700 River Road Unit 43, Riverdale, MD 20737-1231; (301) 734-6954.

SUPPLEMENTARY INFORMATION:

Background

Brucellosis is a contagious disease affecting animals and humans, caused by bacteria of the genus Brucella.

The brucellosis regulations, contained in 9 CFR part 78, currently provide a system for classifying States or portions of States according to the rate of Brucella infection present and the general effectiveness of a brucellosis control and eradication program. The current State classifications are Class Free, Class A, Class B, and Class C. States or areas that do not meet the minimum standards for Class C are required to be placed under Federal quarantine.

This document announces the availability of a concept paper for a new direction for the bovine brucellosis program. Bovine brucellosis has significant animal health, public health, and international trade consequences. The cooperative Federal-State-industry effort to eradicate this disease from cattle in the United States has made significant progress since the program's inception in 1934. However, unique challenges impede eradication. This concept paper presents the current thinking of the Animal and Plant Health Inspection Service's Veterinary Services (VS) program about changes we are planning to address these challenges.

The concept paper provides an action plan that:

1. Effectively demonstrates the disease-free status of the United States through a national status-based program supported by a national surveillance strategy;

2. Enhances efforts to mitigate disease transmission from wildlife;

3. Enhances disease response and control measures;

4. Modernizes the regulatory framework to allow VS to address risks quickly and sensibly; and

5. Implements a risk-based disease management area concept.

The bovine brucellosis concept paper may be viewed on the Internet at the Regulations.gov Web site (see ADDRESSES above for instructions on accessing Regulations.gov). You may request paper copies of the document by calling or writing to the person listed under FOR FURTHER INFORMATION CONTACT. Please refer to the title of the document when requesting copies. The document is also available for review in our reading room (information on the location and hours of the reading room is listed under the heading ADDRESSES at the beginning of this notice).

Done in Washington, DC, this 29th day of September 2009.
Kevin Shea,
Acting Administrator, Animal and Plant Health Inspection Service.

[FR Doc. E9-23947 Filed 10-2-09; 8:45 am]

BILLING CODE 3410-34-P